POSTAL REGULATORY COMMISSION

[Docket No. CP2022-62; Order No. 6167]

Competitive Price Adjustment

AGENCY: Postal Regulatory Commission.

ACTION: Notice.

SUMMARY: The Commission is recognizing a recently filed Postal Service document with the Commission concerning changes in rates of general applicability for competitive products. The changes are scheduled to take effect July 10, 2022. This notice informs the public of the filing, invites public comment, and takes other administrative steps.

DATES: Comments are due: June 6, 2022.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction and Overview

II. Initial Administrative Actions

III. Ordering Paragraphs

I. Introduction and Overview

On May 6, 2022, the Postal Service filed notice with the Commission concerning changes in rates and classifications of general applicability for Competitive products.¹ The Postal Service represents that, as required by 39 CFR 3035.102(b) and 39 CFR 3035.104(b), the Notice includes an explanation and justification for the changes, the effective date, and a schedule of the changed rates. See Notice at 1-2. The changes are scheduled to take effect on July 10, 2022. Id. at 2.

¹ USPS Notice of Changes in Rates and Classifications of General Applicability for Competitive Products, May 6, 2022 (Notice). Pursuant to 39 U.S.C. 3632(b)(2), the Postal Service is obligated to publish the Governors' Decision and record of proceedings in the Federal Register at least 30 days before the effective date of the new rates.

Attached to the Notice is Governors' Decision No. 22-1, which states the new prices are in accordance with 39 U.S.C. 3632 and 3633 and 39 CFR 3035.102.² The Governors' Decision provides an analysis of the Competitive products' price and classification changes intended to demonstrate that the changes comply with 39 U.S.C. 3633 and 39 CFR part 3035. Governors' Decision No. 22-1 at 1. The attachment to the Governors' Decision sets forth the classification and price changes and includes draft Mail Classification Schedule language for Competitive products of general applicability.

² Notice, Decision of the Governors of the United States Postal Service on Changes in Rates and Classification of General Applicability for Competitive Products (Governors' Decision No. 22-1), at 1 (Governors' Decision No. 22-1).

The Notice also includes an application for non-public treatment of the attributable costs, contribution, and cost coverage data in the unredacted version of the annex to the Governors' Decision, as well as the supporting materials for the data. Notice at 2.

Planned price and classification changes. The Governors' Decision includes an overview of the Postal Service's planned price and classification changes for Priority Mail, Parcel Select, and certain International Special Services, which are summarized as follows:

• Eligibility requirements for Priority Mail Commercial Plus Cubic will be removed, so that all commercial customers can use Priority Mail cubic pricing.

• Classification changes will be made to increase insurance to $100 for Priority Mail and to extend the inclusion of $100 in insurance to Priority Mail Returns.

• Cubic pricing will be introduced for Parcel Select Ground.

• Prices for Outbound International Insurance will be increased 55 percent on average, and prices for International Money Transfer Service (IMTS)—Outbound, which includes international Postal Money Orders and Electronic Money Transfer Service, will increase by about 305 percent.³

³ See Notice at 1; see also Governors' Decision No. 22-1 at 2.

II. Initial Administrative Actions

The Commission establishes Docket No. CP2022-62 to consider the Postal Service's Notice. Interested persons may express views and offer comments on whether the planned changes are consistent with 39 U.S.C. 3632, 3633, and 3642, 39 CFR part 3035, and 39 CFR part 3040 subparts B and E. Comments are due no later than June 6, 2022. For specific details of the planned price changes, interested persons are encouraged to review the Notice, which is available on the Commission's website at www.prc.gov.

Pursuant to 39 U.S.C. 505, Gregory S. Stanton is appointed to serve as Public Representative to represent the interests of the general public in this docket.

III. Ordering Paragraphs

It is ordered:

1. The Commission establishes Docket No. CP2022-62 to provide interested persons an opportunity to express views and offer comments on whether the planned changes are consistent with 39 U.S.C. 3632, 3633, and 3642, 39 CFR part 3035, and 39 CFR part 3040 subparts B and E.

2. Comments are due no later than June 6, 2022.

3. Pursuant to 39 U.S.C. 505, the Commission appoints Gregory S. Stanton to serve as an officer of the Commission (Public Representative) to represent the interests of the general public in this docket.

4. The Secretary shall arrange for publication of this Order in the Federal Register.

By the Commission.
Erica A. Barker,
Secretary.

[FR Doc. 2022-10238 Filed 5-12-22; 8:45 am]

BILLING CODE 7710-FW-P